DEPARTMENT OF STATE

[Public Notice 6181]

Advisory Committee on Democracy Promotion (ACDP) Meeting Notice; Notice of Partially Closed Meeting

A meeting of the Advisory Committee on Democracy Promotion will be held on Monday, May 12, 2008 in Room 1107, U.S. Department of State, 2201 C Street, NW., Washington, DC. The meeting will be open to the public from 10 a.m.-12 p.m., up to the capacity of the meeting room. The Committee members will discuss various issues relating to strategies to promote democratic governance, with Secretary Rice leading the discussion from 10:30-11 a.m. Pursuant to section 10(d) of the Federal Advisory Committee Act, 5 U.S.C. App. 10(d) and 5 U.S.C. 552b(c)6, it has been determined that the meeting will be closed to the public from 12 to 2 p.m. because the Committee will be discussing sensitive information about the personal situation of human rights dissidents, disclosure of which would likely jeopardize the safety and welfare of these individuals and constitute a clearly unwarranted invasion of their personal privacy.

Entry to the main State Department building is controlled and will require advance arrangements. Members of the public wishing to attend this meeting should, by Thursday, May 8, 2008, notify Karen Chen in the Bureau of Democracy, Human Rights and Labor—telephone: 202-647-4648—of their name, date of birth, valid government-issued ID number (see below), and citizenship, in order to arrange admittance. This includes admittance for government employees as well as others.

All attendees must use the “C” Street entrance of the Department, after being screened through the exterior screening facilities, and arrive by 9:30 a.m. One of the following valid IDs will be required for admittance: Any U.S. driver's license with photo, a passport, or a U.S. Government agency ID. Because an escort is required at all times, attendees should expect to remain in the meeting throughout the open portion.

For more information, contact Anne Carson, Special Assistant to the Under Secretary for Democracy and Global Affairs, Department of State, Washington, DC 20520, telephone: (202) 647-8703.

Dated: April 11, 2008.
David J. Kramer,
Assistant Secretary of the Bureau of Democracy, Human Rights and Labor, Department of State.

[FR Doc. E8-9091 Filed 4-24-08; 8:45 am]

BILLING CODE 4710-18-P